INTERNATIONAL TRADE COMMISSION

[Inv. No. 337-TA-494]

In the Matter of Certain Automotive Measuring Devices, Products Containing Same, and Bezels for Such Devices; Notice of Commission Decision Not To Review an Initial Determination Granting Complainant's Motion To Amend the Complaint and Notice of Investigation To Add Six Respondents to the Investigation

AGENCY: U.S. International Trade Commission.

ACTION: Notice.

SUMMARY: Notice is hereby given that the U.S. International Trade Commission has determined not to review the initial determination (“ID”) issued by the presiding administrative law judge (“ALJ”) on November 26, 2003, granting complainant Auto Meter Products, Inc.'s motion to amend the complaint and notice of investigation to add six firms as respondents in the above-captioned investigation. These firms are: Modern Work, Inc. of Taipei, Taiwan; Dynamik Exhaust Industry Co., Ltd. of Taipei, Taiwan; LPL Trans Trade Co. of Taipei, Taiwan; Transglobal of Greenville, South Carolina; GSN Automotive, Inc. of Yung Kang City, Taiwan; and Equus, Inc. of Taipei, Taiwan.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission issued a notice of investigation dated June 16, 2003, naming Auto Meter Products, Inc. (“Auto Meter”) of Sycamore, Illinois, as the complainant and several companies as respondents. On June 20, 2003, the notice of investigation was published in the Federal Register. 68 FR 37023 (June 20, 2003). The complaint alleges violations of section 337 of the Tariff Act of 1930 in the importation and sale of certain automotive measuring devices, products containing same, and bezels for such devices, by reason of infringement of U.S. Registered Trademark Nos. 1,732,643 and 1,497,472, and U.S. Supplemental Register No. 1,903,908, and infringement of the complainant's trade dress. Subsequently, one more firm was added as a respondent based on a motion filed by Auto Meter.

On October 2, 2003, Auto Meter filed a motion to amend the complaint and notice of investigation, and protective order to include six additional respondents. On October 14, 2003, American Products Company, Inc. (“APC”), Equus Products, Inc. (“Equus Products”) and GR Motorsports, Inc. D/b/a/ Matrix GR Motorsports (“GR”), three of the current respondents, filed their opposition to Auto Meter's motion. On October 23, 2003, Auto Meter filed a motion for leave to reply to the opposition filed by APC, Equus Products, and GR, which was granted by the ALJ. On October 29, 2003, the Commission investigative attorneys filed a response in support of Auto Meter's motion.

On December 15, 2003, the ALJ issued an initial determination (Order No. 12) granting Auto Meter's motion. No party petitioned for review of the ID.

The authority for the Commission's determination is contained in section 337 of the Tariff Act of 1930, as amended (19 U.S.C. 1337), and in § 210.42 of the Commission's Rules of Practice and Procedure (19 CFR 210.42).

Issued: January 13, 2004.
By order of the Commission.
Marilyn R. Abbott,
Secretary.

[FR Doc. 04-1130 Filed 1-16-04; 8:45 am]

BILLING CODE 7020-02-P